DEPARTMENT OF AGRICULTURE

Farm Service Agency

Information Collection; Record of Pooled Farm Allotment or Quota and Application for Transfer of Allotment or Quota From Pool

AGENCY: Farm Service Agency, USDA.

ACTION: Notice; request for public comment.

SUMMARY: In accordance with the Paperwork Reduction Act of 1995, the Farm Service Agency (FSA) is seeking comments from all interested individuals and entities on the reinstatement with revision of a previously approved information collection associated with two forms that are used in administering the tobacco marketing quota program.

DATES: To be assured of consideration, comments about this notice must be received in writing on or before August 4, 2003. Comments received after that date will be considered to the extent practicable.

ADDRESSES: Comments concerning this notice should be addressed to Director, Tobacco Division, FSA, USDA, 1400 Independence Avenue, SW., Room 5750-S, STOP 0514, Washington, DC 20250-0514 and to the Desk Officer for Agriculture, Office of Information and Regulatory Affairs, Office of Management and Budget, Washington, DC 20503. Comments may be submitted via facsimile to (202) 720-0549 or by e-mail to tob_comments@wdc.usda.gov.

FOR FURTHER INFORMATION CONTACT: Ann Wortham, Tobacco Division, (202) 720-2715 or ann_wortham@wdc.usda.gov. The public may inspect comments received and copies of the forms at the Tobacco Division at the address shown above during normal business hours. Visitors are encouraged to call ahead at (202) 720-7413 to facilitate entry into the building. Individuals who use telecommunication devices for the deaf (TDD) may call the Federal Information Relay Service (FIRS) at 1-800-877-8339 between 8 a.m. and 8 p.m., eastern standard time, Monday through Friday.

SUPPLEMENTARY INFORMATION:

Description of Information Collections

Title: Record of Pooled Farm Allotment of Quota.

OMB Control Number: 0560-0033.

Form Number: MQ-177.

Type of Request: Reinstatement With Revision of a Previously Approved Information Collection.

Abstract: The ‘Record of Pooled Farm Allotment or Quota’ form is used to record tobacco allotments or quotas that are to be held in a reserve ‘pool’ for landowners who have been displaced because their farms have been taken by power of ‘eminent domain’ by a Federal, State, or other agency either by court proceedings to condemn the land or by negotiation between the agency and the owner of the land. When an owner is displaced from a farm in such a way, she/he shall notify the FSA County Committee at the FSA County office that serves that farm so that the farm allotment or quota may be placed in an eminent domain pool. The allotment or quota thus placed in a pool is held for the displaced owners to transfer to other farms they own or may purchase. An owner must request transfer of the allotment or quota from the pool within 3 years from the date of displacement from the farm to which the allotment or quota originally belonged. Pooled allotments or quotas shall be considered fully planted and, for each year in the pool, shall be established in accordance with tobacco marketing quota regulations. (An owner is a person, or persons in a joint ownership, having title to the land for a period of at least 12 months immediately prior to the date of eminent domain acquisition.)

Estimate of Annual Burden: 50 minutes.

Type of Respondents: Tobacco allotment or quota holders who are displaced from their land when such land is taken by eminent domain acquisition.

Estimated Annual Number of Respondents: 12.

Estimated Annual Number of Responses per Respondent: 1.

Estimated Total Annual Burden on Respondents: 10 hours.

Title: Application for Transfer of Allotment or Quota From Pool.

OMB Control Number: 0560-0033.

Form Number: MQ-178.

Type of Request: Reinstatement with Revision of a Previously Approved Information Collection.

Abstract: A person who has been displaced from her/his farm by eminent domain and who placed that farm's tobacco allotment or quota in a pool, will use the ‘Application for Transfer of Allotment or Quota From Pool’ to transfer the pooled tobacco to another farm which she/he owns or has purchased. The request for transfer must be made within 3 years from the date of displacement and submitted for approval to the FSA County office that serves that farm.

Estimate of Annual Burden: 50 minutes.

Type of Respondents: Tobacco allotment or quota holders who are displaced from their land when such land is taken by eminent domain acquisition.

Estimated Annual Number of Respondents: 12.

Estimated Annual Number of Responses per Respondent: 1.

Estimated Total Annual Burden on Respondents: 10 hours.

Comment is invited on: (1) Whether these collections of information are necessary for the above stated purposes and the proper performance of FSA, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public records. Comments will be summarized and included in the submission for Office of Management and Budget Approval.

Signed in Washington, DC, on May 23, 2003.
James R. Little,
Administrator, Farm Service Agency.

[FR Doc. 03-13768 Filed 6-2-03; 8:45 am]

BILLING CODE 3410-05-P